DEPARTMENT OF HOMELAND SECURITY

Coast Guard

[Docket No. USCG-2009-0299]

Terminate Long Range Aids to Navigation (Loran-C) Signal

AGENCY: U.S. Coast Guard, DHS.

ACTION: Notice; correction.

SUMMARY: The Coast Guard is correcting a notice that appeared in the Federal Register of January 7, 2010 (75 FR 998). The document announced termination of the Long Range Aids to Navigation (Loran-C) Signal commencing on or about February 8, 2010. The document had an incorrect word in the DATES section.

DATES: Effective January 13, 2010.

FOR FURTHER INFORMATION CONTACT: If you have questions on this notice, contact Mr. Mike Sollosi, U.S. Coast Guard, Department of Homeland Security, telephone (202) 372-1545, Mike.M.Sollosi@uscg.mil.

SUPPLEMENTARY INFORMATION: In the Federal Register of January 7, 2010, in FR Doc. 2010-83, on page 998 in the second column under DATES, correct “Transmission of the Loran-C signal and phased decommissioning of the Loran-C infrastructure will commence on or about February 8, 2010” to read: “Termination of the Loran-C signal and phased decommissioning of the Loran-C infrastructure will commence on or about February 8, 2010.”

Dated: January 7, 2010.
Mark W. Skolnicki,
Commander, U.S. Coast Guard, Acting Chief, Office of Regulations and Administrative Law.

[FR Doc. 2010-439 Filed 1-12-10; 8:45 am]

BILLING CODE 9110-04-P